DEPARTMENT OF THE INTERIOR

Fish and Wildlife Service

50 CFR Part 17

Endangered and Threatened Wildlife and Plants; Status Review for the Westslope Cutthroat Trout

AGENCY: Fish and Wildlife Service, Interior.

ACTION: Reopening of public comment period.

SUMMARY: We, the U.S. Fish and Wildlife Service, announce the reopening of the public comment period for a new status review for the westslope cutthroat trout (Oncorhynchus clarki lewisi) in the United States, pursuant to a recent Court order and the Endangered Species Act of 1973, as amended. We request additional data, information, technical critiques, and relevant comments that may be available for this subspecies of fish, as previously described in the Federal Register (67 FR 56257; September 3, 2002).

DATES: The reopened comment period closes on February 15, 2003. Any comments that are received after the closing date will not be considered in the status review.

ADDRESSES: Comments should be submitted to Westslope Cutthroat Comments, U.S. Fish and Wildlife Service, 2900 4th Avenue North, Room 301, Billings, MT 59102. Comments also may be submitted electronically to <fw6_westslope@fws.gov>.

FOR FURTHER INFORMATION CONTACT: Lynn R. Kaeding at e-mail <lynn_kaeding@fws.gov> or telephone (406) 582-0717.

SUPPLEMENTARY INFORMATION:

Background

A September 3, 2002, Federal Register notice (67 FR 56257) announced the opening of a 60-day public comment period for a new status review for the westslope cutthroat trout in the United States, pursuant to a recent Court order and the Endangered Species Act of 1973, as amended. During that comment period, we received written requests for an extension of the comment period from the game and fish departments of the States of Washington, Oregon, Idaho, and Montana, as well as the Kalispel Tribe of Indians and the Earthjustice Legal Foundation. In their letters, those entities indicated that they were assembling or awaiting important information relevant to the status of westslope cutthroat trout and that those entities wanted to make such information available to us for use in the status review. The present action satisfies those requests.

Author

The primary author of this document is Lynn R. Kaeding, Chief, Branch of Native Fishes Management, Montana Fish and Wildlife Management Assistance Office, U.S. Fish and Wildlife Service, 4052 Bridger Canyon Road, Bozeman, MT 59715.

Authority

The authority for this action is the Endangered Species Act of 1973 (16 U.S.C. 1531 et seq.).

Dated: December 4, 2002.
Marshall P. Jones, Jr.,
Director, Fish and Wildlife Service.

[FR Doc. 02-31875 Filed 12-17-02; 8:45 am]

BILLING CODE 4310-55-P